DEPARTMENT OF THE INTERIOR

Geological Survey

Notice of an Open Meeting of the Advisory Committee on Water Information (ACWI)

Correction

In notice document 08-613 beginning on page 8346 in the issue of Wednesday, February 13, 2008, make the following corrections:

1. On page 8346, in the third column, under the SUMMARY heading, in the second line, “ACWS” should read “ACWI”.

2. On the same page, in the same column, under the SUMMARY heading, in the seventh line, “ACWS” should read “ACWI”.

[FR Doc. C8-613 Filed 2-22-08; 8:45 am]

BILLING CODE 1505-01-D